DEPARTMENT OF COMMERCE

National Oceanic and Atmospheric Administration

50 CFR Part 622

[Docket No. 090220217-9226-01]

RIN 0648-AX66

Fisheries of the Caribbean, Gulf of Mexico, and South Atlantic; Reef Fish Resources of the Gulf of Mexico; Commercial Sector of the Reef Fish Fishery of the Gulf of Mexico; Control Date

AGENCY: National Marine Fisheries Service (NMFS), National Oceanic and Atmospheric Administration (NOAA), Commerce.

ACTION: Advance notice of proposed rulemaking; consideration of a control date.

SUMMARY: NMFS announces that it is establishing a revised control date that may be used to control future access to the commercial sector of the reef fish fishery operating in the exclusive economic zone (EEZ) of the Gulf of Mexico (Gulf). If changes to the management regime are developed and implemented under the Magnuson-Stevens Fishery Conservation and Management Act (Magnuson-Stevens Act), a control date could be used to limit the number of participants in the fishery. This announcement is intended, in part, to promote awareness of the potential eligibility criteria for future access so as to discourage speculative entry into the fishery while the Gulf of Mexico Fishery Management Council (Council) and NMFS consider whether and how access to the commercial sector of the reef fish fishery should be controlled.

DATES: Comments must be received on of before 5 p.m., eastern time, April 17, 2009.

ADDRESSES: You may submit comments, identified by RIN 0648-AX66, by any one of the following methods:

• Electronic Submissions: Submit all electronic public comments via the Federal eRulemaking Portal http://www.regulations.gov.

• Mail: Cynthia Meyer, NMFS Southeast Regional Office, Sustainable Fisheries Division, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http://www.regulations.gov, enter “NOAA-NMFS-2009-0039” in the keyword search, then select “Send a Comment or Submission.” NMFS will accept anonymous comments (enter N/A in the required fields, if you wish to remain anonymous). You may submit attachments to electronic comments in Microsoft Word, Excel, WordPerfect, or Adobe PDF file formats only.

SUPPLEMENTARY INFORMATION: The commercial sector of the Gulf reef fish fishery is managed under the Fishery Management Plan for the Reef Fish Resources of the Gulf of Mexico (FMP). The FMP was prepared by the Council, and implemented under the authority of the Magnuson-Stevens Act. A moratorium on the issuance of new commercial reef fish permits was established by Amendment 4 to the FMP in May 1992. The moratorium has been maintained since that time with the implementation of Amendments 9, 11, and 17. The Council implemented Amendment 24 on August 17, 2005, to replace the commercial reef fish permit moratorium that was set to expire on December 31, 2005, with a permanent limited access system.

This notice would inform participants in the Gulf reef fish fishery of the Council's intention to consider further limiting access within the commercial sector of the Gulf reef fish fishery. Specifically, the Council may consider creating additional restrictions including limiting participation by gear type or by specific species to only those vessels or participants that have catch histories in excess of some minimum landings threshold. Should the Council take such future action to further restrict participation in the commercial sector of the Gulf reef fish fishery, it intends to use December 31, 2008, as a possible control date regarding the eligibility of catch histories. This date was announced at the Council's January 2009 meeting, and was chosen because it coincides with the end of the immediately preceding fishing year in which landings would be documented. Publication of the control date in the Federal Register informs participants of the Council's considerations, and gives notice to anyone entering the fishery after the control date they would not be assured of future access should a management regime be implemented using the control date as a means to restrict participation. Implementation of any such program would require preparation of an amendment to the FMP and subsequent rulemaking with appropriate public comment periods.

Consideration of a control date does not commit the Council or NMFS to any particular management regime or criteria for eligibility in the commercial sector of the Gulf reef fish fishery. The Council may or may not make use of this control date as part of the qualifying criteria for participation in that sector of the fishery. Fishermen are not guaranteed future participation in a fishery regardless of their entry date or intensity of participation in the fishery before or after the control date under consideration. The Council subsequently may choose a different control date or a management regime that does not make use of a control date. The Council also may choose to take no further action to control entry or access to the fishery, in which case the control date may be rescinded.

Authority: 16 U.S.C. 1801 et seq.

Dated: March 12, 2009.
James W. Balsiger,
Acting Assistant Administrator for Fisheries, National Marine Fisheries Service.

[FR Doc. E9-5864 Filed 3-17-09; 8:45 am]

BILLING CODE 3510-22-S